NATIONAL AERONAUTICS AND SPACE ADMINISTRATION

Notice of Information Collection

AGENCY: National Aeronautics and Space Administration (NASA).

NOTICE: [11-017].

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Lori Parker, National Aeronautics and Space Administration, Washington, DC 20546-0001.

FOR FURTHER INFORMATION CONTACT: Requests for additional information or copies of the information collection instrument(s) and instructions should be directed to Frances Teel, Acting NASA Clearance Officer, NASA Headquarters, 300 E Street SW., JF0000, Washington, DC 20546, (202) 358-1351, Frances.C.Teel@nasa.gov.

SUPPLEMENTARY INFORMATION:

I. Abstract

LaRC leadership desires to seek out customer feedback across all mission areas they support in order to determine, from an integrated perspective, those areas where NASA may need to take systemic action to improve the technical quality and/or the delivery of our products and services.

II. Method of Collection

We intend to introduce the survey by initially by letter; however, customers will have the option to provide their feedback via e-mail, Web-based survey, or phone conversation in accordance with their preference.

III. Data

Title: LaRC Customer Satisfaction Assessment

OMB Number: 2700-XXXX

Type of review: New Collection

Affected Public: Individuals or households

Estimated Number of Respondents: 30

Estimated Number of Responses per Respondent: 1

Estimated Time per Response: 30 minutes

Estimated Total Annual Burden Hours: 15 hours

Estimated Annual Cost for Respondents: $53.00

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
Acting NASA Clearance Officer.

[FR Doc. 2011-3783 Filed 2-18-11; 8:45 am]

BILLING CODE 7510-13-P